Title 3—

The President

Proclamation 7968 of December 9, 2005

Human Rights Day, Bill of Rights Day, and Human Rights Week, 2005

By the President of the United States of America

A Proclamation

Americans believe that freedom is God's gift to every man and woman in the world. The Founders adopted our Constitution to secure the blessings of liberty for the people of the United States, and since 1789, generations of Americans have defended and advanced freedom in our Nation.

Throughout our history, the United States has also worked to extend the promise of liberty to other countries. We are continuing those efforts today. We are promoting democracies that respect freedom of speech, freedom of worship, and freedom of the press and that protect the rights of minorities and women. We are standing with dissidents and exiles against oppressive regimes and tyranny.

This year has seen great advances in the spread of democracy and human rights. In January, more than eight million Iraqi men and women braved threats of violence to vote for a provisional government. In October, Iraqis voted in even greater numbers to approve a draft constitution for their country, and on December 15, they will return to the polls to elect a Council of Representatives. Millions of Afghans voted in September in the first free legislative elections in Afghanistan in decades. Countries of the former Soviet bloc are emerging as thriving democracies. A free press is gaining ground in Kyrgyzstan, and civil institutions are being strengthened in Ukraine and Georgia. We have witnessed good progress this year, and America will continue this historic work to advance the cause of freedom.

We remain confident in this cause because we have seen the power of freedom to overcome the dark ideologies of tyranny and terror. Freedom enables men and women to live lives of dignity. And freedom gives the citizens of a nation confidence in a future of peace for their children and grandchildren. As we observe Human Rights Day, Bill of Rights Day, and Human Rights Week, we renew our commitment to building a world where human rights are respected and protected by the rule of law and where all people can enjoy freedom and dignity.

NOW, THEREFORE, I, GEORGE W. BUSH, President of the United States of America, by virtue of the authority vested in me by the Constitution and laws of the United States, do hereby proclaim December 10, 2005, as Human Rights Day; December 15, 2005, as Bill of Rights Day; and the week beginning December 10, 2005, as Human Rights Week. I call upon the people of the United States to mark these observances with appropriate ceremonies and activities.

IN WITNESS WHEREOF, I have hereunto set my hand this ninth day of December, in the year of our Lord two thousand five, and of the Independence of the United States of America the two hundred and thirtieth.

B

[FR Doc. 05-24060

Filed 12-12-05; 11:18 am]

Billing code 3195-01-P